DEPARTMENT OF HEALTH AND HUMAN SERVICES

Centers for Disease Control and Prevention

[60 Day-08-08AS]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Surveys of BioSense Trainings,—New—National Center for Public Health Informatics (NCPHI), Centers for Disease Control and Prevention (CDC).

Background and Brief Description

Congress passed the Public Health Security and Bioterrorism Preparedness and Response Act of 2002, which requires specific activities related to bioterrorism preparedness and response. This congressional mandate outlines the need for improving the overall public's health through electronic surveillance. The Department of Health and Human Services outlined strategies aimed at achieving this goal via the Public Health IT Initiative thereby creating the BioSense program.

BioSense is the national, human health surveillance system designed to improve the nation's capabilities for disease detection, monitoring, and real-time health situational awareness. This work is enhanced by providing public health real-time access to existing data from healthcare organizations, state syndromic surveillance systems, national laboratories, and others for just in time public health decision-making. BioSense data are analyzed through advanced statistical methods, and made accessible through the BioSense application. The application provides data, charts, graphs, and maps through a secure web-based interface which can be accessed by CDC and authorized state and local public health and hospital users.

In order to meet the congressional mandate, it is important that BioSense users understand the role of BioSense in daily surveillance as well as be able to use specific BioSense modalities to investigate or monitor any potential disease outbreaks and/or bioterrorist attacks. A series of training tools have been developed to educate BioSense users about how best to utilize BioSense in these circumstances.

The training tools were developed based upon a 2007 needs assessment conducted among BioSense users. Training 1 is an online, self-paced training module designed for BioSense users at the beginner level who are not wholly familiar with BioSense or have not used the system on a regular basis. This module presents the background of BioSense and an overview of its general functions in a didactic training style. Training 2 is a virtual training filmed in Second Life. It is designed for intermediate to advanced level users who are aware of and have used the general BioSense functionalities for daily surveillance but want additional skills related to using BioSense during an emergency scenario. This scenario-based module is presented in an experiential training style.

Data collection will take place in the form of an online survey immediately following each training module and a link to an online survey emailed 3-months post training. This data collection will assess the goals of these trainings, which are to help registered BioSense users (1) establish knowledge and efficacy necessary to use BioSense to investigate and/or monitor a potential event or outbreak; (2) facilitate communication between BioSense administrators in public health and hospital settings; (3) access BioSense trainings that are engaging and easy to use; and (4) use BioSense to investigate and/or monitor a potential event or outbreak. The post-training and 3-month follow-up surveys have been pre-tested with less than 9 participants. Survey results will be used to identify the impact and applicability of these training modules for BioSense users.

There are no costs to survey respondents other than their time to participate.

Estimated Annualized Burden Hours
Form | Number of respondents | Number of responses per respondent | Average burden per response (in hours) | Total burden (in hours)
Post-Training Survey | 400 | 1 | 10/60 | 67
3-Month Follow Up Survey | 320 | 1 | 5/60 | 27
Total |  |  |  | 94

Dated: February 29, 2008.
Maryam I. Daneshvar,
Acting Reports Clearance Officer, Centers for Disease Control and Prevention.

[FR Doc. E8-4651 Filed 3-7-08; 8:45 am]

BILLING CODE 4163-18-P